DEPARTMENT OF JUSTICE

Parole Commission

Public Announcement Pursuant to the Government in the Sunshine Act (Pub. L. 94-409) (5 U.S.C. 552b)

Time and Date: 9:30 a.m., Thursday, June 2, 2005.

Place: 5550 Friendship Blvd., Fourth Floor, Chevy Chase, MD 20815.

Status: Open.

Matters to be Considered: The following matters have been placed on the agenda for the open Parole Commission meeting:

1. Approval of Minutes of Previous Commission Meeting.

2. Reports from the Chairman, Commissioners, Legal, Chief of Staff, Case Operations, and Administrative Sections.

Agency Contact: Thomas W. Hutchison, Chief of Staff, United States Parole Commission, (301) 492-5990.

Dated: May 26, 2005.
Rockne Chickinell,
General Counsel, U.S. Parole Commission.

[FR Doc. 05-10944 Filed 5-27-05; 10:40 am]

BILLING CODE 4410-31-M